EXPORT-IMPORT BANK

Request for Applications: EXIM's Advisory Committee, Sub-Saharan Africa Advisory Committee, Chair's Council on Climate, and Chair's Council on China Competition

The Export-Import Bank of the United States (EXIM) is accepting applications for the EXIM Advisory Committee, Sub-Saharan Africa Advisory Committee, Chair's Council on Climate, and Chair's Council on China Competition from July 6, 2021 to July 30, 2021.

Candidates wishing to be considered for membership to any of committees must submit the following: Candidate Questionnaire; Resume and/or biography; and Letter of interest from the candidate demonstrating skills, talents, and experience relevant to providing advice and recommendations to EXIM.

Completed application materials must be submitted by 5:30 p.m. EDT, July 30, 2021 to advisory@exim.gov.

Advisory Committee

The Advisory Committee provides guidance to EXIM on its policies and programs, in particular on the extent to which EXIM provides competitive financing to support American jobs through exports. The committee's 17 members represent small business, environment, production, commerce, finance, agriculture, labor, services, state government, and the textile industry.

Sub-Saharan Africa Advisory Committee

The Sub-Saharan Africa Advisory Committee provides advice on EXIM policies and programs designed to support the expansion of financing support for U.S. manufactured goods and services in Sub-Saharan Africa. The nine committee members represent small business, banking, finance, trade promotion, and commerce.

Chair's Council on Climate

The newly established Advisory Subcommittee on Climate—or the Chair's Council on Climate—will advise how EXIM can further support U.S. exporters and American jobs in clean energy and meet congressional mandates to support and promote environmentally beneficial renewable energy, energy efficiency, and energy storage exports.

Chair's Council on China Competition

The Advisory Subcommittee on Strategic Competition with the People's Republic of China—or the Chair's Council on China Competition—provides guidance on advancing the comparative leadership of the United States with respect to China and supporting U.S. innovation and employment through competitive export finance.

For more information about applying for membership to any of the committees, please visit the EXIM website or contact India Walker, External Engagement Specialist, at india.walker@exim.gov or at 202-480-0062.

Joyce B. Stone,
Assistant Corporate Secretary.

[FR Doc. 2021-14613 Filed 7-7-21; 8:45 am]

BILLING CODE 6690-01-P